DEPARTMENT OF ENERGY

Federal Energy Regulatory Commission

[Project No. 1881-050]

PPL Holtwood, LLC; Notice of Extension of Comment Date

April 18, 2008.

On February 21, 2008, the Commission issued a “Notice of Application Accepted for Filing, Soliciting Motions to Intervene and Protests, Ready for Environmental Analysis, and Soliciting Comments, Recommendations, Terms and Conditions, and Fishway Prescriptions” with a comment date of April 21, 2008, and a reply comment date of June 5, 2008.

On April 16, 2008, Exelon Corporation and PPL Holtwood, LLC, jointly requested the comment date be extended an additional two weeks. The comment date will be extended to May 5, 2008, and the reply comment date will be extended until June 19, 2008.

Kimberly D. Bose,
Secretary.

[FR Doc. E8-9020 Filed 4-24-08; 8:45 am]

BILLING CODE 6717-01-P